LEGAL SERVICES CORPORATION

Sunshine Act Meeting of the Operations and Regulations Committee of the Board of Directors

ACTION: The Operations and Regulations Committee meeting scheduled for 2:30 p.m. on April 14, 2000 has been CANCELED.

CONTACT PERSON FOR INFORMATION: Victor M. Fortuno, Vice President for Legal Affairs, at (202) 336-8800.

Dated: April 11, 2000.
Victor M. Fortuno,
Vice President for Legal Affairs.

[FR Doc. 00-9335 Filed 4-11-00; 12:51 pm]

BILLING CODE 7050-01-P